EXPORT-IMPORT BANK

[Public Notice: EIB-2020-0011]

Proposal To Consider Changes to EXIM's Content Policy With Respect to the Program on China and Transformational Exports

AGENCY: Export-Import Bank of the United States.

ACTION: Notice.

SUMMARY: This Notice is to inform the public that the Export-Import Bank of the United States (EXIM), in implementation of its historic seven-year reauthorization and directive to establish a new “Program on China and Transformational Exports” (“directive”) is considering changes to its U.S. medium- and long-term content policy (“content policy”). Any changes to the content policy would be specifically with respect to the new directive.

EXIM is considering whether changes to its content policy would improve the competitiveness of American exporters, and, by definition, their workers, as they face intense competition in transformational export sectors from China.

DATES: Comments must be received on or before December 14, 2020, to be assured of consideration before final consideration by the Board of Directors of EXIM.

ADDRESSES: Comments may be submitted through Regulations.gov at WWW.REGULATIONS.GOV. To submit a comment, enter Public Notice: EIB-2020-0011 under the heading “Enter Keyword or ID” and select Search. Follow the instructions provided at the Submit a Comment screen. Please include your name, company name (if any) and Public Notice: EIB-2020-0011 on any attached document.

SUPPLEMENTARY INFORMATION: U.S. stakeholders and financial institutions regularly identify EXIM's content policy as the greatest challenge to EXIM support of their exports. This concern has been further validated through extensive discussions with exporters across numerous sectors, including during EXIM's 2020 “Strengthening American Competitiveness” initiative—where more than 1,000 stakeholders participated—specifically when it comes to neutralizing China and supporting transformational exports.

EXIM's historic seven-year reauthorization (Pub. L. 116-94), signed into law December 20, 2019, directed EXIM to establish a new “Program on China and Transformational Exports” (Sec. 402). The Program's purpose is to support the extension of loans, guarantees, and insurance, at rates and on terms and other conditions, to the extent practicable, that are fully competitive with rates, terms, and other conditions established by the People's Republic of China or by other covered countries (as designated by the Secretary of the Treasury). The law charges EXIM with a goal of reserving not less than 20 percent of the agency's total financing authority (i.e., $27 billion out of a total of $135 billion) for support made pursuant to the program.

Pursuant to EXIM's reauthorization, the China Program has two aims: (1) To directly neutralize export subsidies for competing goods and services financed by official export credit, tied aid, or blended financing provided by China or by other covered countries; and (2) To advance the comparative leadership of the United States with respect to China, or support United States innovation, employment, and technological standards, through direct exports in certain transformational industries. These transformational industries include:

• Artificial intelligence.

• Biotechnology.

• Biomedical sciences.

• Wireless communications equipment (including 5G or subsequent wireless technologies).

• Quantum computing.

• Renewable energy, energy efficiency, and energy storage.

• Semiconductor and semiconductor machinery manufacturing.

• Emerging financial technologies (including technologies that facilitate financial inclusion through increased access to capital and financial services; data security and privacy; payments, the transfer of funds, and associated messaging services; and efforts to combat money laundering and the financing of terrorism).

• Water treatment and sanitation (including technologies and infrastructure to reduce contaminants and improve water quality).

• High-performance computing;

• Associated services necessary for use of any of the foregoing exports.

Information on Decision: Information on the final decision for this matter will be available in the “Summary Minutes of Meetings of Board of Directors” on http://exim.gov/newsandevents/boardmeetings/board/.

Confidential Information: Please note that this notice does not include confidential or proprietary business information; information which, if disclosed, would violate the Trade Secrets Act; or information which would jeopardize jobs in the United States by supplying information that competitors could use to compete with companies in the United States.

Joyce B. Stone,
Assistant Corporate Secretary.

[FR Doc. 2020-26040 Filed 11-24-20; 8:45 am]

BILLING CODE 6690-01-P